DEPARTMENT OF DEFENSE

Office of the Secretary

Defense Advisory Committee on Diversity and Inclusion; Notice of Federal Advisory Committee Meeting; Cancellation

AGENCY: Under Secretary of Defense for Personnel and Readiness, Department of Defense (DoD).

ACTION: Notice of cancellation of Federal advisory committee meeting.

SUMMARY: On August 28, 2023, the DoD published a notice announcing the next meeting of the Defense Advisory Committee on Diversity and Inclusion (DACODAI) on October 5, 2023, from 11:45 a.m. to 3:30 p.m. (EST) and October 6, 2023, from 8:15 a.m. to 12:45 p.m. (EST). DoD is publishing this notice to announce that this Federal Advisory Committee meeting of the DACODAI is cancelled and will be rescheduled at a later date. The rescheduled meeting will be announced in the Federal Register.

DATES: Thursday, October 5, 2023, from 11:45 a.m. to 3:30 p.m. (EST) and Friday, October 6, 2023, from 8:15 a.m. to 12:45 p.m.—CANCELLED.

FOR FURTHER INFORMATION CONTACT: Ms. Shirley Raguindin, (571) 645-6952 (voice), shirley.s.raguindin.civ@mail.mil or osd.mc-alex.ousd-p-r.mbx.dacodai@mail.mil (email).

SUPPLEMENTARY INFORMATION: Due to circumstances beyond the control of the Department of Defense and the Designated Federal Officer for the Defense Advisory Committee on Diversity and Inclusion, the Defense Advisory Committee on Diversity and Inclusion was unable to provide public notification required by 41 CFR 102-3.150(a) concerning the cancellation of its October 5-6, 2023 meeting. Accordingly, the Advisory Committee Management Officer for Department of Defense, pursuant to 41 CFR 102-3.150(b), waives the 15-calendar day notification requirement.

Dated: September 25, 2023.
Aaron T. Siegel,
Alternate OSD Federal Register, Liaison Officer, Department of Defense.

[FR Doc. 2023-21330 Filed 9-28-23; 8:45 am]

BILLING CODE 5001-06-P